ENVIRONMENTAL PROTECTION AGENCY

[EPA-HQ-2006-0735; FRL-8249-5]

First Draft Staff Paper for Lead

AGENCY: Environmental Protection Agency (EPA).

ACTION: Notice of a draft for public review and comment.

SUMMARY: On or about December 4, 2006, the Office of Air Quality Planning and Standards (OAQPS) of EPA will make available for public review and comment a first draft document, Review of the National Ambient Air Quality Standards for Lead: Policy Assessment of Scientific and Technical Information (Draft Staff Paper). The purpose of the Staff Paper is to evaluate the policy implications of the key scientific and technical information contained in a related EPA document, Air Quality Criteria for Lead, required under sections 108 and 109 of the Clean Air Act (CAA) for use in the periodic review of the national ambient air quality standards (NAAQS) for lead. On or about December 15, 2006, the OAQPS also will make available for public review and comment the related draft technical support document, Lead Human Exposure and Health Risk Assessments and Ecological Risk Assessment for Selected Areas (Pilot Phase).

DATES: Comments on the draft Staff Paper and draft Risk Assessment must be received on or before January 26, 2007.

ADDRESSES: Submit your comments, identified by Docket ID No. EPA-HQ-OAR-2006-0735, by one of the following methods:

• www.regulations.gov: Follow the on-line instructions for submitting comments.

• E-mail: Comments may be sent by electronic mail (e-mail) to a-and-r-Docket@epa.gov, Attention Docket ID No. EPA-HQ-OAR-2006-0735.

• Fax: Fax your comments to: 202-566-1741, Attention Docket ID. No. EPA-HQ-OAR-2006-0735.

• Mail: Send your comments to: Air and Radiation Docket and Information Center, Environmental Protection Agency, Mail Code: 6102T, 1200 Pennsylvania Ave., NW., Washington, DC 20460, Attention Docket ID No. EPA-HQ-OAR-2006-0735.

• Hand Delivery or Courier: Deliver your comments to: EPA Docket Center, 1301 Constitution Ave., NW., Room 3334, Washington, DC. Such deliveries are only accepted during the Docket's normal hours of operation, and special arrangements should be made for deliveries of boxed information.

Instructions: Direct your comments to Docket ID No. EPA-HQ-OAR-2006-0735. The EPA's policy is that all comments received will be included in the public docket without change and may be made available online at www.regulations.gov (including any personal information provided, unless the comment includes information claimed to be Confidential Business Information (CBI) or other information whose disclosure is restricted by statute). Do not submit information that you consider to be CBI or otherwise protected through www.regulations.gov, or e-mail. The www.regulations.gov is an “anonymous access” system, which means EPA will not know your identity or contact information unless you provide it in the body of your comment. If you send an e-mail comment directly to EPA without going through www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the Air Docket in the EPA Docket Center, (EPA/DC) EPA West, Room 3334, 1301 Constitution Ave., NW., Washington, DC. This Docket Facility is open from 8:30 a.m. to 4:30 p.m., Monday through Friday, excluding legal holidays. The Docket telephone number is (202) 566-1744; fax (202) 566-1741.

FOR FURTHER INFORMATION CONTACT: Dr. Zachary Pekar, Office of Air Quality Planning and Standards (mail code C504-06), U.S. Environmental Protection Agency, Research Triangle Park, NC 27711; e-mail: pekar.zachary@epa.gov; telephone: (919) 541-3704; fax: (919) 541-0237.

General Information

A. What Should I Consider as I Prepare My Comments for EPA?

1. Submitting CBI. Do not submit this information to EPA through www.regulations.gov or e-mail. Clearly mark the part or all of the information that you claim to be CBI. For CBI information in a disk or CD ROM that you mail to EPA, mark the outside of the disk or CD ROM as CBI and then identify electronically within the disk or CD ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for Preparing Your Comments. When submitting comments, remember to:

• Identify the rulemaking by docket number and other identifying information (subject heading, Federal Register date and page number).

• Follow directions—The agency may ask you to respond to specific questions or organize comments by referencing a Code of Federal Regulations (CFR) part or section number.

• Explain why you agree or disagree; suggest alternatives and substitute language for your requested changes.

• Describe any assumptions and provide any technical information and/or data that you used.

• If you estimate potential costs or burdens, explain how you arrived at your estimate in sufficient detail to allow for it to be reproduced.

• Provide specific examples to illustrate your concerns, and suggest alternatives.

• Explain your views as clearly as possible, avoiding the use of profanity or personal threats.

• Make sure to submit your comments by the comment period deadline identified.

SUPPLEMENTARY INFORMATION: Section 108(a) of the CAA directs the Administrator to identify certain pollutants which “may reasonably be anticipated to endanger public health and welfare” and to issue air quality criteria for them. These air quality criteria are to “accurately reflect the latest scientific knowledge useful in indicating the kind and extent of all identifiable effects on public health or welfare which may be expected from the presence of [a] pollutant in the ambient air * * *” Under section 109 of the CAA, EPA is then to establish NAAQS for each pollutant for which EPA has issued criteria. Section 109(d) of the CAA subsequently requires periodic review and, if appropriate, revision of existing air quality criteria to reflect advances in scientific knowledge on the effects of the pollutant on public health and welfare. The EPA is also to revise the NAAQS, if appropriate, based on the revised criteria.

Lead is one of six “criteria” pollutants for which EPA has established air quality criteria and NAAQS. Presently, EPA is reviewing the criteria and NAAQS for lead. This review includes preparation of two key documents, the Air Quality Criteria for Lead (“Criteria Document”) and a related “Staff Paper”. The EPA completed its final Criteria Document for lead in October 2006 (71 FR 57508; September 29, 2006).

The purpose of the first draft Staff Paper is to evaluate the policy implications of the key scientific and technical information contained in the final Air Quality Criteria Document (AQCD) and identify critical elements that EPA staff believe should be considered in reviewing the NAAQS. The Staff Paper is intended to “bridge the gap” between the scientific review contained in the AQCD and the public health and welfare policy judgments required of the Administrator in reviewing the NAAQS.

Availability of the first external review draft of the Air Quality Criteria for Lead (EPA/600/R-05/144aA-bA), was announced in the Federal Register on December 2, 2005 (70 FR 72300). The Clean Air Science Advisory Committee (CASAC) Lead Review Panel reviewed the first external review draft at a public meeting on February 28 and March 1, 2006.

The EPA considered comments of the CASAC review panel and the public in revising the draft AQCD for lead. Availability of the second external review draft of the Air Quality Criteria for Lead (EPA/600/R-05/144aB-bB), was announced in the Federal Register on May 19, 2006 (71 FR 29152). The CASAC Lead Review Panel reviewed the second external review draft at a public meeting on June 28, 2006. The EPA provided revised Integrative Synthesis and Executive Summary chapters of the draft AQCD for Lead to the public and CASAC for review in July 2006. The CASAC Lead Review Panel met via a publicly accessible teleconference on August 15, 2006, to review these revised chapters (71 FR 40516). The EPA has considered the comments of the CASAC Lead Review Panel and of the public in preparing the final Air Quality Criteria for Lead. The final AQCD for Lead was released in October, 2006 (71 FR 71 57508; September 29, 2006).

Based on the information contained in the AQCD, the draft Staff Paper includes assessments and analyses related to: (1) Air quality characterization; (2) integration and evaluation of health information; (3) exposure analysis; (4) health risk assessment; and (5) evaluation of information on vegetation damage and other welfare effects. The first draft Staff Paper contains no staff conclusions and recommendations with respect to possible revisions to the current standards. A second draft of the Staff Paper will include staff conclusions and recommendations on potential revision or retention of the primary (health-based) and secondary (welfare-based) lead NAAQS.

The draft technical support document Lead Human Exposure and Health Risk Assessments and Ecological Risk Assessment for Selected Areas (Pilot Phase) describes and present the results from a lead exposure analysis and health risk assessment involving several case study locations. A draft plan, Analysis Plan for Human Health and Ecological Risk Assessment for the Review of the Pb National Ambient Air Quality Standards, was previously reviewed by CASAC and the public. Comments received on that plan have been considered in developing the Lead Human Exposure and Health Risk Assessments and Ecological Risk Assessment for Selected Areas (Pilot Phase) technical support document being released at this time. The exposure analysis and risk assessment methodologies and results are also discussed in the draft Staff Paper.

The EPA is soliciting early advice and recommendations from the CASAC by means of a consultation on the first draft Staff Paper and first draft Risk Assessment at an upcoming public meeting of the CASAC. A Federal Register notice will inform the public of the date and location of that meeting. Following the CASAC meeting, EPA will consider comments received from the CASAC and the public in preparing a second draft of the Staff Paper and the Lead Human Exposure and Health Risk Assessments and Ecological Risk Assessment for Selected Areas (Full-Scale Phase) technical support document. Preparation of this draft staff paper is consistent with the Agency meeting a court-ordered schedule for completion of the proposed rule (May 1, 2008) and final rule (September 1, 2008).

Dated: November 21, 2006.
Jeffrey S. Clark,
Acting Director, Office of Air Quality Planning and Standards.

[FR Doc. E6-20220 Filed 11-28-06; 8:45 am]

BILLING CODE 6560-50-P